DEPARTMENT OF LABOR

Employment and Training Administration

[TA-W-61,921]

Whaling Mfg. Co., Inc., Currently Known as Whaling Distributors, Inc., Fall River, MA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on August 20, 2007, applicable to workers of Whaling Mfg. Co., Inc., Fall River, Massachusetts. The notice was published in the Federal Register on September 11, 2007 (72 FR 51845).

At the request of the State agency, the Department reviewed the certification for workers of the subject firm. The workers are engaged in the production of outerwear and uniforms, including raincoats, jackets, and police uniforms.

New information shows that following a change in ownership in July 2008, Whaling Mfg. Co., Inc. is currently known as Whaling Distributors, Inc. The workers wages at the subject firm are being reported under the Unemployment Insurance (UI) tax account for Whaling Distributors, Inc.

Accordingly, the Department is amending this certification to show that Whaling Mfg. Co., Inc. is currently known as Whaling Distributors, Inc.

The intent of the Department's certification is to include all workers of Whaling Mfg. Co., Inc., who were adversely affected by increased imports following a shift in production to Portugal, China and Vietnam.

The amended notice applicable to TA-W-61,921 is hereby issued as follows:

All workers of Whaling Mfg. Co., Inc., currently known as Whaling Distributors, Inc., Fall River, Massachusetts, who became totally or partially separated from employment on or after June 2, 2007, through August 20, 2009, are eligible to apply for adjustment assistance under Section 223 of the Trade Act of 1974, and are also eligible to apply for alternative trade adjustment assistance under Section 246 of the Trade Act of 1974.

Signed at Washington, DC, this 2nd day of October 2008.
Linda G. Poole,
Certifying Officer, Division of Trade Adjustment Assistance.

[FR Doc. E8-24123 Filed 10-9-08; 8:45 am]

BILLING CODE 4510-FN-P